DEPARTMENT OF THE INTERIOR

National Park Service

30 Day Notice of Submission of Request for Final Clearance of Information Collection, Special Park Use Applications (Portions of 36 CFR 1-7, 13, 20, 34) to OMB, and Request for Public Comment To Be Sent to OMB Within 30 Days

AGENCY: National Park Service, Interior.

ACTION: Notice of submission to OMB and request for comments.

SUMMARY: Under the Provisions of the Paperwork Reduction Act of 1995 (Pub. L. 104-13, 44 U.S.C. 3507) and 5 CFR, part 1320 Reporting and Record Keeping Requirements, this notice announces the National Park Service (NPS) submission to OMB and request for final clearance of three (3) information collections forms (OMB control number 1024-0026). These information collections are associated with permits implementing provisions of the agency regulations pertaining to the use of public lands. The information gathered is used to determine the presence or absence of derogation of the resource and allow the park manager to make a valued judgment as to whether or not to allow or deny the requested permit. The uses considered under these information collection applications generally include but are not limited to special events, filming and photography, and grazing in parks where such activity is authorized by law.

DATES: Public comments of this final notice must be received by December 5, 2003 to be assured of consideration.

The bureau solicits public comments as to:

(1) Whether the collection of information is necessary for the proper performance of the functions of the bureau, including whether the information will have practical utility;

(2) The accuracy of the bureau's estimate of the burden of the collection of information, including the validity of the methodology and assumptions used;

(3) The quality, utility, and clarity of the information to be collected; and

(4) How to minimize the burden of the collection of information on those who are to respond, including the use of appropriate automated electronic, mechanical, or other forms of information technology.

ADDRESSES: Send comments to: Desk Officer for the Interior Department, OMB Office of Information and Regulatory Affairs, via facsimile at (202) 395-6566, or via e-mail at OIRA_DOCKET@omb.eop.gov. Also send a copy of your comments to Leonard Stowe, National Park Service, 1849 C Street, NW. (2605), Washington, DC 20240. All comments will become a matter of public record. Copies of the above mentioned forms may be obtained from the internet at:

http://www.nps.gov/policy/DOrders/Permitforms.pdf.

All comments will become a matter of public record. Copies of the above mentioned forms may be obtained from the Internet at: http://www.nps.gov/policy/DOrders/Permitforms.pdf.

FOR FURTHER INFORMATION CONTACT: Lee Dickinson, Special Park Uses Program Manager, National Park Service at (202) 513-7092.

SUPPLEMENTARY INFORMATION: (1) Title: Special Park Uses Application Forms.

(2) Form Numbers: 10-930, 10-931, 10-932.

(3) OMB Number: 1024-0026.

(4) Expiration Date: September 30, 2006.

(5) Type of Request: Extension of currently approved collection.

(6) Description of Need: Collection of information allows park managers to determine approval or denial of requested permit.

(7) Estimated number of Applicants: 18,600.

(8) Estimated number of Responses: 18,600.

(9) Estimated Total Annual Burden: 11,150 hours.

(10) Non-hour cost of $50 per response for filing fee.

Analysis of Comments Regarding the 60-Day Federal Register Notice

There were no comments received from the public on the proposed regulations during the 60-day public comment period that closed March 7, 2003. One internal respondent suggested some grammatical changes, which have been made. The forms were first approved in September 2000. No comments concerning the forms have been received in the last 3 years.

Dated: October 7, 2003.
Leonard E. Stowe,
Acting NPS Information Collection Clearance Officer.

[FR Doc. 03-27719 Filed 11-4-03; 8:45 am]

BILLING CODE 4312-53-M